ENVIRONMENTAL PROTECTION AGENCY

[FRL 10178-01-OAR]

Fuels Biointermediate Compliance; Notification of Workshop

AGENCY: Environmental Protection Agency (EPA).

ACTION: Notification of workshop.

SUMMARY: The Environmental Protection Agency (EPA) is announcing a virtual public workshop on the new biointermediates provisions of the Renewable Fuel Standard program. Additional information regarding the workshop appears below under SUPPLEMENTARY INFORMATION.

DATES: The virtual workshop will be held on September 29th, 2022 from 1 p.m. to 4 p.m. eastern daylight time. Please monitor https://www.epa.gov/renewable-fuel-standard-program/workshop-biointermediates-compliance-2022 for any changes to meeting logistics.

ADDRESSES: All attendees must preregister for the workshop by emailing FuelsProgramsReporting@epa.gov no later than September 27, 2022.

FOR FURTHER INFORMATION CONTACT: Mark Goldman, Office of Transportation and Air Quality, Compliance Division; telephone number: (202) 564-0604; email address: FuelsProgramsReporting@epa.gov.

SUPPLEMENTARY INFORMATION: EPA is hosting a virtual public workshop to discuss the implementation of the new biointermediate provisions promulgated as a part of Renewable Fuel Standard (RFS) final rule for years 2020, 2021, and 2022 (see 87 FR 39600, July 1, 2022).

These new provisions allow for the use of certain biointermediates to produce qualifying renewable fuels and specify requirements that apply when renewable fuel is produced through sequential operations at more than one facility. Additionally, the new provisions cover the production, transfer, and use of biointermediates and new regulatory requirements related to registration, recordkeeping, and reporting for facilities producing or using a biointermediate for renewable fuel production.

The virtual public workshop will provide the opportunity for EPA to update stakeholders on how to register and comply with requirements for producing, transferring and using biointermediates. There will also be a question and answer period for stakeholders to ask additional questions related to biointermediates.

An agenda will be posted approximately one week before the workshop at: https://www.epa.gov/renewable-fuel-standard-program/workshop-biointermediates-compliance-2022. Interested parties should check this website for any updated information.

For individuals with disabilities: For information on access or services for individuals with disabilities or to request accommodation of a disability, please email FuelsProgramsReporting@epa.gov, preferably at least 10 business days prior to the meeting, to give EPA as much time as possible to process your request.

Byron Bunker,
Director, Compliance Division, Office of Transportation & Air Quality.

[FR Doc. 2022-19958 Filed 9-14-22; 8:45 am]

BILLING CODE 6560-50-P